INTERNATIONAL BOUNDARY AND WATER COMMISSION, UNITED STATES AND MEXICO

United States Section; Notice of Intent To Prepare an Environmental Assessment for Emergency Repairs to the Presidio Flood Control Project in Presidio, TX

AGENCY: United States Section, International Boundary and Water Commission, United States and Mexico.

ACTION: Notice of Intent to prepare an Environmental Assessment.

SUMMARY: This notice advises the public that pursuant to section 102(2)(c) of the National Environmental Policy Act (NEPA) of 1969, as amended, the United States Section, International Boundary and Water Commission (USIBWC) intends to prepare an Environmental Assessment (EA) for the proposed action of constructing emergency repairs within a 3000-foot reach of the Presidio Flood Control Levee. This notice is being provided as required by the Council on Environmental Quality Regulations (40 CFR 1501.7) and the USIBWC's Operating Procedures for Implementing Section 102 of the National Environmental Policy Act (NEPA), to obtain suggestions and information from other agencies and the public on the scope of issues to be addressed in the EA.

FOR FURTHER INFORMATION CONTACT: Mr. Daniel Borunda, Environmental Protection Specialist, Environmental Management Division, USIBWC, 4171 North Mesa Street, C-100, El Paso, Texas 79932 or e-mail: danielborunda@ibwc.gov.

SUPPLEMENTARY INFORMATION:

Background

The USIBWC operates and maintains the Presidio Flood Control Project (FCP) located along the Rio Grande within the city of Presidio, Texas. The FCP extends approximately 15.2 miles, from Haciendita, upstream of the Rio Conchos confluence, and ending downstream of Presidio near Brito Creek. In September and October 2008, the Presidio FCP levees sustained major flood damage from overtopping, under-seepage, and erosion. The USIBWC intends to prepare an EA to assess impacts associated with emergency repairs of a 3000-foot section of levee near Station 7+000 that is susceptible to under-seepage and possible levee failure. Recent geotechnical evaluations have identified this reach as requiring immediate attention in order to provide flood control protection to the city of Presidio in preparation of the regional monsoon season. The levee reach is located in the upper levee segment of the Presidio Flood Control project near the Cibolo Creek. The location of the deficient area requires immediate action by the USIBWC in order to ameliorate the eminent risk of levee failure.

Alternatives

In order to remediate the potential levee failure, within the 3000-foot reach, the USIBWC is proposing several alternatives actions, including: (1) No-action; (2) slurry-trench; (3) slurry trench with geotechnical membrane; and (4) sheet piling.

The NEPA analysis and documentation will identify and evaluate all relevant impacts, conditions, and issues associated with the proposed alternative actions.

Dated: March 27, 2009.
Robert McCarthy,
General Counsel.

[FR Doc. E9-7422 Filed 4-1-09; 8:45 am]

BILLING CODE 7010-01-P